DEPARTMENT OF HOMELAND SECURITY

Federal Emergency Management Agency

44 CFR Part 67

[Docket No. FEMA-P-7663]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 Proposed flood elevation determination.

2. The tables published under the authority of § 67.4 are proposed to be amended as follows:

State | City/town/county | Source of flooding | Location | # Depth in feet above ground *Elevation in feet (NGVD) ◆Elevation in feet (NAVD): Existing | # Depth in feet above ground *Elevation in feet (NGVD) ◆Elevation in feet (NAVD): Modified
Indiana | Indianapolis (City) McClain County | Berkshire Creek | At its confluence with Devon Creek | N/A | *746
|  |  | Approximately 150 feet upstream of Marrison Place | N/A | *780
|  | Buffalo Creek | Just upstream of West County Line Road | *709 | *707
|  |  | At East Stop 11 Road | *758 | *754
|  | Devon Creek | Approximately 740 feet downstream of Millersville Road | *734 | *733
|  |  | Approximately 100 feet upstream of Laurel Falls Road | N/A | *814
|  | Little Buck Creek | Approximately 300 feet downstream of South Tibbs Avenue | *670 | *669
|  |  | Approximately 75 feet upstream of the furthest upstream crossing of East Engewood Avenue | N/A | *844
Maps are avaialble for inspection at 2142 City-County Building, 200 East Washington Street, Indianapolis, Indiana.
Send comments to The Honorable Bart Peterson, Mayor, City of Indianapolis, 2501 City-County Building, 200 East Washington Street, Indianapolis, Indiana 46204.
Nebraska | Wakefield (City) Dixon and Wayne Counties | Logan Creek Dredge | Approximately 1.4 miles downstream of State Highway 35 | None | ◆1,378
|  |  | Approximately 0.6 mile upstream of County Road 859 | None | ◆1,389
|  | South Logan Creek | At confluence with Logan Creek Dredge | None | ◆1,387
|  |  | Approximately 1.2 miles upstream of the confluence with Logan Creek Dredge | None | ◆1,390
|  | Ponding areas west of State Highway 35 and north of Abandoned Railroad (4) | Entire shoreline | None | ◆1,382
|  | Ponding areas adjacent to State Highway 35 and north of Abandoned Railroad (4) | Entire shoreline | None | ◆1,380
|  | Ponding area east of State Highway 35 | Entire shoreline | None | ◆1,376
|  | Ponding area east of State Highway 35 and south of Abandoned Railroad | Entire shoreline | None | ◆1,378
Maps are avaialble for inspection at 405 Main Street, Wakefield, Nebraska.
Send comments to The Honorable Jim Clark, Mayor, City of Wakefield, 405 Main Street, P.O. Box 178, Wakefield, Nebraska 68784.
Oklahoma | Blanchard (City) Grady and McClain Counties | Bridge Creek | Approximately 150 feet downstream of County Line Road | None | *1,199
|  |  | Just downstream of County Line Road | None | *1,199
|  | East Branch Walnut Creek Tributary | Approximately 1,675 feet downstream of Southeast 7th Street | None | *1,196
|  |  | Approximately 525 feet upstream of Northeast 10th Street | None | *1,270
|  | North Fork Walnut Creek | Approxiamtely 2,570 feet downstream of U.S. Highway 62/277 | None | *1,164
|  |  | Approxiamtely 22,820 feet upstream of U.S. Highway 62/277 | None | *1,201
|  | Stinson Creek | Approximately 20 feet downstream of Sandrock Road | None | *1,208
|  |  | Approxiamtely 1,190 feet upstream of Sandrock Road | None | *1,212
|  | Tributary A2 | At the confluence with West Branch Walnut Creek Tributary | None | *1,217
|  |  | Approxiamtely 3,585 feet upstream of the confluence with West Branch Walnut Creek Tributary | None | *1,241
|  | West Branch Walnut Creek Tributary | Approximately 4,035 feet downstream of Southeast 7th Street | None | *1,195
|  |  | Approximately 3,690 feet upstream of N2990 Road | None | *1,242
Maps are available for inspection at City Hall, 114 West Broadway, Blanchard, Oklahoma.
Send comments to The Honorable Barbara Harris, Mayor, City of Blanchard, City Hall, 114 West Broadway, Blanchard, Oklahoma 73010.
Oklahoma | Grady County (Unincorporated Areas) | West Branch Walnut Creek Tributary | Approximately 160 feet downstream of N2990 Road | None | *1,227
|  |  | Approximately 4,030 feet upstream of N2990 Road | None | *1,244
Maps are available for inspection at 4th Street and Choctaw Street, Chickasha, Oklahoma.
Send comments to The Honorable Jack Porter, Chairman, Grady County Board of Commissioners, 326 West Chuctaw, Chickasha, Oklahoma 73108.
Oklahoma | McAlester (City) Pittsburg County | Tributary A | Approximately 4,875 feet downstream of Village Boulevard | ◆681 | ◆682
|  |  | Approximately 2,100 feet upstream of Crooked Oak Lane. | ◆764 | ◆756
|  | Tributary AA | At the confluence with Tributary A. | ◆697 | ◆698
|  |  | Approximately 3,275 feet upstream of U.S. Highway 69 | ◆755 | ◆754
|  | Tributary B | Approximately 490 feet downstream of South C Street | ◆690 | ◆687
|  | Tributary B | Approximately 300 feet upstream of U.S. Highway 69 Service Road (2nd crossing) | None | ◆741
|  | Tributary C | Just upstream of Union Pacific Railroad | ◆647 | ◆646
|  |  | Approximately 550 feet upstream of East Monroe Avenue | ◆687 | ◆686
|  | Tributary D | Just upstream of South F Street | ◆681 | ◆678
|  |  | Approximatley 1,375 feet upstream of East South Avenue | ◆725 | ◆726
|  | Tributary DD | At the confluence with Tributary D | ◆701 | ◆703
|  |  | Approximately 325 feet upstream of East Seminole Avenue | None | ◆715
Maps are available for inspection at 28 East Washington Street, McAlester, Oklahoma.
Send comments to The Honorable Dale Covington, Mayor, City of McAlester, 28 East Washington Street, McAlester, Oklahoma 74502.
Oklahoma | McClain County (Unincorporated Areas) | East Branch Walnut Creek Tributary | At the confluence with West Branch Walnut Creek Tributary | None | *1,180
|  |  | Approximately 2,320 feet upstream of confluence with West Branch Walnut Creek Tributary | None | *1,197
|  | North Fork Walnut Creek | Approximately 24,660 feet upstream of the confluence with Walnut Creek | None | *1,164
|  |  | Approximately 7,340 feet upstream of State Highway 76 | None | *1,201
|  | Stinson Creek (Lower Reach) | At the confluence with North Fork Walnut Creek | None | *1,175
|  |  | Approximately 6,500 feet upstream of Quailhaven Road | None | *1,208
|  | West Branch Walnut Creek Tirubtary | Approximately 3,350 feet upstream of the confluence with Walnut Creek | None | *1,171
|  |  | Approximately 2,590 feet upstream of Tyler Avenue | None | *1,206
Maps are available for inspection at 501 North Street, Purcell, Oklahoma.
Send comments to The Honorable Loyd Tucker, Chairman, McClain County Board of Commissioners, 501 North Street, P.O. Box 629, Purcell, Oklahoma 73080.
Texas | Eagle Pass (City) Maverick County | Eagle Pass Creek | At the confluence with Rio Grande. | *712 | *716
|  |  | Approximately 200 feet upstream of Vista Hermosa Drive | None | *790
|  | Eagle Pass Creek Tributary 1 | Just upstream of Union Pacific Railroad | *727 | *726
|  |  | Approximately 330 feet upstream of Travis Street | *743 | *741
|  | Eagle Pass Creek Tributary 2 | Just upstream of the confluence with Eagle Pass Creek | *743 | 741
|  |  | Approximately 2,100 feet upstream of North Bibb Avenue | None | *799
|  | Rio Grande | Approximately 1,950 feet downstream of International Union Pacific Railroad Bridge | *709 | *710
|  |  | Approximately 1,950 feet upstream of East Garrison Street | *719 | *722
|  | Tributary to East Seco Creek | Approximately 100 feet downstream of U.S. Highway 277 | None | *736
|  |  | Approximately 1,185 feet upstream of U.S. Highway 277 | None | *744
|  | Unnamed Tributary of Rio Grande | Approximately 1,620 feet downstream of FM 3443 (1st Crossing) | None | *739
|  |  | Approximately 1,620 feet upstream of East Main Street | None | *772
Maps are available for inspection at City Hall, 100 South Monroe Street, Eagle Pass, Texas.
Send comments to The Honorable Chad Foster, Mayor, City of Eagle Pass, City Hall, 100 South Monroe Street, Eagle Pass, Texas 78852.
Wisconsin | Manitowoc (City) | Manitowoc River | At South 10th Street | *584 | *585
| Manitowoc County |  | Approximately 2,550 feet downstream of Michigan Avenue | *603 | *604
Maps area available for inspection at the Manitowoc City Hall, 900 Quay Street, Manitowoc, Wisconsin.
Send comments to The Honorable Kevin Crawford, Mayor, City of Manitowoc, 900 Quay Street, Manitowoc, Wisconsin 54220.

(Catalog of Federal Domestic Assistance No. 83.100, “Flood Insurance.”)
Dated: December 7, 2004.
David I. Maurstad,
Acting Director, Mitigation Division, Emergency Preparedness and Response Directorate.

[FR Doc. 04-27245 Filed 12-10-04; 8:45 am]

BILLING CODE 9110-12-P